GENERAL SERVICES ADMINISTRATION

Notice of Intent to Prepare an Environmental Impact Statement (EIS) for Consolidation of the Two Existing NIOSH Facilities in Cincinnati, Ohio

AGENCY: Public Buildings Service, GSA

ACTION: Notice of Intent (NOI) to Prepare EIS

SUMMARY: Pursuant to the requirements of the National Environmental Policy Act (NEPA) of 1969, and the President’s Council on Environmental Quality Regulations (40 CFR parts 1500-1508), as implemented by General Services Administration (GSA) Order PBS P 1095.4D, GSA announces its Notice of Intent (NOI) to prepare an Environmental Impact Statement (EIS) for the proposed consolidation of the two existing NIOSH facilities, the Robert A. Taft Laboratory and the Alice Hamilton Laboratory buildings, into a single consolidated facility at a new location in Ohio.

SUPPLEMENTARY INFORMATION: The delineated area for this project is defined as follows; starting at Exit 54 on Interstate Highway I-275 northeast of Cincinnati; then running clockwise along a line approximately two miles east and parallel to Interstate Highway I-275 south to the Ohio River; then west along the Ohio River to a point where it intersects with Interstate Highway I-75; then north and northeast along Interstate Highway I-75 until it intersects with Ohio State Highway 126 at Exit 104; then east along Ohio State Highway 126 until it intersects with US Highway 22 (Montgomery Rd.); from this point east along a line back to Exit 54 on Interstate Highway 275.

The purpose of this proposed action is to consolidate these facilities, which have been occupied for the past 50 years and are outdated and inefficient, into a new consolidated facility. The need for this action is for NIOSH to collocate operational functions into a single location to eliminate the inherent inefficiencies associated with the current separated and outdated facilities.

The EIS will examine the impacts of this proposed development on the natural and human environment to include impacts to wetlands, floodplains, traffic, historic resources, and other potential impacts identified by the community through the scoping process.

The consolidated facility will be acquired by the Government, and may be an existing facility, or may be property acquired for the construction of a new facility. GSA, as agent for CDC, will develop a list of alternate site locations based on the criteria for the project. The site and must be large enough to accommodate the needed 350,000 square feet of usable space with 1100 employees. The minimum site size needed will by approximately 14 acres. The technical site evaluation criteria are:

GENERAL

• The property owner(s) must have sole, legally documented authority to represent the property or facility or assemblage for the Government’s consideration. No speculative offers will be considered.

• The site must be within an approximately 25 minute or 30 mile distance from the Cincinnati airport.

• The site must have reasonably direct access from the Interstate(s) or other major roadway arteries.

• The site must be proximate to existing support services such as restaurants/ eateries, hotels/ motels or other approved retail and/or commercial uses to support the Government’s workforce.

• Existing facilities must comply with, or must be capable of being upgraded to, the most current versions of the Unified Facilities Criteria (UFC), the Department of Defense (DoD) Minimum Anti-terrorism Standards for Buildings and the ISC Security Design Criteria for Federal Buildings with CDC project specific planning criteria, to be considered.

• Only property within the State of Ohio will be considered.

SITE

• The site must encompass a minimum of 14 developable acres with the following characteristics:

• No deed restrictions or encumbrances that may potentially restrict the Government’s use of the developable portion(s) of the site.

• Soil type and subsurface conditions suitable for low- and mid-rise development consistent with that described in the solicitation.

• Appropriate zoning or other land use control designation that would allow research/office uses as specified in the Government’s solicitation.

• The site must be contiguous.

• Preference shall be given to sites that have favorable configuration in shape and dimensions so as to afford the most flexibility for site planning for the proposed development.

• The site must be served by or proximate to basic utilities including, but not limited to, water, sanitary and storm sewer, natural gas, and electricity.

• The property owner(s) must either certify in writing that no environmental condition exists or is pending, as defined by Federal, State or local jurisdiction law, regulation or ordinance that would potentially restrict the Government’s use of the site as stated in the NOI, or identify any such condition(s), if known. The Government would keep this information confidential to the extent allowed under Federal law.

• The property owner(s) must identify any Federal, State or locally documented historic, archaeological or cultural resources located on or immediately adjacent to the site, if known.

• The property owner(s) must provide a certified ALTA/ ACSM Boundary, Topographical and Utility (BTU) survey of the site, prepared by a qualified, licensed surveyor, that identifies the legal dimensions and boundaries of the site, all lakes, stream or other bodies of water, all major natural features of the site such as hills and ravines, public or private roads, power transmission, natural gas, electric distribution, or other utility lines below ground, on-grade, or suspended, and any-and-all other encumbrances to the site.

• The property owner(s) must identify any existing buildings or other improvements on the site, and if such improvements would be demolished by the Property owner(s) or the Government prior to development of the site; or if the Government is to evaluate the improvements for future NIOSH occupancy and use.

GSA will first identify sites that can meet these basic criterions for the project, and will then use the NEPA process analyze the impacts of the potential sites that have been screened down to a short list for final consideration. GSA will solicit community input throughout this process, and will incorporate community comments into the decision process before any decisions are made. As part of the Public Scoping process, GSA will solicit comments in writing through advertisements in the local newspapers and public meetings once potential sites have been identified. Comments will be directed to: Mr. Phil Youngberg, Environmental Manager (4PT), General Services Administration (GSA), 77 Forsyth Street, Suite 450, Atlanta, GA 30303.

FOR FURTHER INFORMATION CONTACT: Mr. Phil Youngberg via FAX: 404-562-0790, or Email: phil.Youngberg@gsa.gov.

Signed:
June 6, 2006.
Philip B. Youngberg,
Environmental Manager 4PHD

[FR Doc. E6-9251 Filed 6-13-06; 8:45 am]

BILLING CODE 6820-DN-S